DEPARTMENT OF DEFENSE

Office of the Secretary

32 CFR Part 239

[DOD-2009-OS-0090]

RIN 0790-AI58

Homeowners Assistance Program—Application Processing

AGENCY: Under Secretary of Defense for Acquisition, Technology, and Logistics, Office of the Deputy Under Secretary of Defense (Installations and Environment), DoD.

ACTION: Interim final rule; extension of comment period.

SUMMARY: On September 30, 2009, DoD published an interim final rule implementing the Homeowners Assistance Program (HAP), with an effective date of September 30, 2009 (74 FR 50109-50115). This notice is being published to invite additional public comment on the interim final rule. Any timely public comments received will be considered and any changes to the final rule will be published in the Federal Register. The public comment period is being extended for 60 days.

DATES: The effective date of the HAP interim final rule remains September 30, 2009. Additional comments must be received on or before January 15, 2010.

ADDRESSES: You may submit comments, identified by docket number and/or Regulatory Information Number (RIN) and title, by either of the following methods:

Federal eRulemaking Portal: http://www.regulations.gov. Follow the instructions for submitting comments.

Mail: Federal Docket Management System Office, 1160 Defense Pentagon, Room 3C843, Washington, DC 20301-1160.

Instructions: All submissions received must include the agency name and docket number or RIN for this Federal Register document. The general policy for comments and other submissions from members of the public is to make these submissions available for public viewing on the Internet at http://regulations.gov as they are received without change, including any personal identifiers or contact information.

FOR FURTHER INFORMATION CONTACT: Deanna Buchner, (703) 602-4353.

Dated: November 9, 2009.
Patricia L. Toppings,
OSD Federal Register Liaison Officer, Department of Defense.

[FR Doc. E9-27373 Filed 11-13-09; 8:45 am]

BILLING CODE 5001-06-P